DEPARTMENT OF COMMERCE

National Oceanic and Atmospheric Administration

[Docket No.: 011113275-2038-03; I.D. 030602B]

RIN 0648-ZB11

Coral Reef Conservation Grant Program Fiscal Year 2002 Funding Guidance

AGENCY: National Marine Fisheries Service (NMFS), National Ocean Service (NOS), Commerce.

ACTION: Notice of Availability of Federal assistance for coral reef conservation activities.

SUMMARY: The purpose of this document is to advise the public that the National Oceanic and Atmospheric Administration (NOAA) is soliciting proposals for the NOAA Coral Reef Conservation Grant Program (Program), pursuant to the Coral Reef Conservation Act of 2000 (Act). The Act authorizes the Secretary of Commerce (Secretary), through the NOAA Administrator (Administrator) and subject to the availability of funds, to provide matching grants of financial assistance for coral reef conservation projects under the Program. This document provides the specific Fiscal Year (FY) 2002 Funding Guidance (Guidance) necessary to award $5,500,000, of which NOAA is providing $5,150,000 and the Department of Interior is providing $350,000 in Federal assistance, consistent with the NOAA Coral Reef Conservation Grant Program Implementation Guidelines (Guidelines), published concurrently with this Guidance. The Proposed Guidelines were published in the Federal Register for public comment on December 10, 2001. The information published in this Guidance includes: specific program eligibility criteria, available funding, proposal submission and selection dates, and detailed application requirements and proposal evaluation criteria. All applications submitted pursuant to this notice must be consistent with the requirements stated herein and in the Guidelines, and be consistent with the National Coral Reef Action Strategy (Strategy). NOAA is in the final stages of completing the Strategy, in consultation with the United States Coral Reef Task Force (USCRTF), as required under the Act. The purpose of the Strategy is to provide an implementation plan to advance coral reef conservation, including a basis for funding allocations to be made under the Program. Upon final completion of the Strategy, NOAA will publish notice of the Availability of the Strategy in the Federal Register and at: www.coralreef.noaa.gov/. Until such notice is provided, NOAA and applicants for coral reef grant funds provided under this notice shall use the National Action Plan to Conserve Coral Reefs (National Action Plan), dated March 2, 2000, in place of the Strategy. The Strategy and the National Action Plan share the same basic goals and objectives, thereby ensuring that the National Action Plan can provide sufficient guidance for the development and review of grant applications pursuant to this notice. The National Action Plan can be found at: http://coralreef.gov/. Applicants may also request copies of the National Action Plan from the contacts listed below.

DATES: Effective April 19, 2002.

ADDRESSES: Send all proposals to: David Kennedy, NOAA Coral Program Coordinator, Office of Response and Restoration, N/ORR, Room 10102, NOAA National Ocean Service, 1305 East-West Highway, Silver Spring, MD 20910, Fax: 301-713-4389. Only written proposals will be accepted, no electronic mail applications will be accepted. Envelopes or faxes should be sent to the attention of one of the following proposal categories, as appropriate: State and Territory Coral Reef Management; Coral Reef Monitoring and Research; General Coral Reef Conservation; Projects to Improve or Amend Coral Reef Fishery Management Plans; and International Coral Reef Conservation.

FOR FURTHER INFORMATION CONTACT: See SUPPLEMENTARY INFORMATION for telephone and e-mail addresses of contacts for this program.

SUPPLEMENTARY INFORMATION:

Contacts for Specific Information

Administrative questions should be directed to Bill Millhouser, 301-713-3155, extension 189 or e-mail at bill.millhouser@noaa.gov.

Technical point of contact for State and Territory Coral Reef Management is Bill Millhouser, 301-713-3155, extension 189 or e-mail at bill.millhouser@noaa.gov.

Technical point of contact for State and Territory Coral Reef Monitoring and Research is Ruth Kelty, 301-713-3020, extension 133 or e-mail at ruth.kelty@noaa.gov.

Technical point of contact for General Coral Reef Conservation is Tom Hourigan, 301-713-2319, extension 121 or e-mail at tom.hourigan@noaa.gov.

Technical point of contact for Projects to Improve or Amend Coral Reef Fishery Management Plans is Tom Hourigan, 301-713-2319, extension 121 or e-mail at tom.hourigan@noaa.gov.

Technical point of contact for International Coral Reef Conservation is Arthur Paterson, 301-713-3078, extension 217 or e-mail at arthur.e.paterson@noaa.gov.

NOAA announces the availability of $5,500,000 of Federal assistance in FY 2002 for Coral Conservation Activities. NOAA is providing $5,150,000 and the Department of Interior (DOI) is providing $350,000. These funds will be used to support the following six program areas: State and Territory Coral Reef Management; State and Territory Coral Reef Monitoring; State and Territory Research to support monitoring technologies; General Coral Reef Conservation; Projects to Improve or Amend Coral Reef Fishery Management Plans; and International Coral Reef Conservation. The amount of funds available, and the application requirements for each program area are defined in Sections IV-IX of this notice. Selected recipients will enter into either a cooperative agreement with the NOAA Office responsible for the program or receive a grant depending upon the amount of NOAA's involvement in the project. Substantial involvement means a cooperative agreement, while independent work requires a grant.

All applicants are required to submit a Federal financial assistance awards package and proposal write-up as described in the relevant program section below. The financial assistance awards package (which includes forms SF-424, SF-424A, SF-424B, CD-511, CD-512, and SF-LLL) can be obtained from the NOAA grants Website at http://www.rdc.noaa.gov/grants/pdf. For each proposal submitted, applicants are required to prepare one original and two signed copies for each application package.

The number of awards made under this Program as a result of this solicitation will depend on the number of eligible applications received, the amount of funds requested by eligible applicants, the merit review and ranking of the proposals, the application of the geographic and biological diversity requirements of 16 U.S.C. 6403(d), and how well the proposal satisfied the criteria in 16 U.S.C. 6403(g). As a result, awards may not necessarily be made to the highest scoring proposals. Successful applicants may be asked to revise award objectives, work plans, or budgets prior to final approval of an award. The exact amount of funds to be awarded, the final scope of activities, the project duration, and specific NOAA cooperative involvement with the activities of each project will be determined in pre-award negotiations among the applicant, the NOAA Grants Management Division (GMD), and the relevant NOAA staff. Projects should not be initiated in expectation of Federal funding until a notice of award document is received from the NOAA GMD. Publication of this document does not obligate NOAA to award any specific project or obligate all or any part of available funds.

I. Authority

Statutory authority is provided under Section 6403 (Coral Reef Conservation Program) of the Coral Reef Conservation Act of 2000 (16 U.S.C. 6403 et seq.). Each program's Catalog of Federal Domestic Assistance (CFDA) number can be found in the specific program information included below, Sections IV-IX.

II. General Background

Rather than develop a new grant program under the Act, NOAA's approach to implementing this Program was to draw together existing financial assistance programs under the umbrella of the Program.

III. Application and Selection Schedule

Applications must be received by NOAA before 5 p.m. Eastern Daylight Time on the dates specified below. Applicants should consider the delivery time when submitting their applications from international or remote areas. Selected proposals will receive funding no later than October 1, 2002. The following review and selection timetable applies to all proposals under the Program:

Applications due to NOAA—May 24, 2002

NOAA returns proposal comments and notice of intent to fund to applicants—June 28, 2002

Final Applications due to NOAA—July 19, 2002

The NOAA Grants Officer or the Program Officer for each grant program, as appropriate, will provide each applicant with written notice of the final funding decision on or before September 30, 2002.

IV. State and Territory Coral Reef Management

A. Program Description

This description provides requirements for applying for funding appropriated by Congress to NOAA and DOI in FY 2002 to support comprehensive programs for the conservation and management of coral reefs and associated fisheries in the jurisdictions of Puerto Rico, the U.S. Virgin Islands (USVI), Florida, Hawaii, Guam, the Commonwealth of the Northern Mariana Islands (CNMI), and American Samoa.

NOAA's National Ocean Service, Office of Ocean and Coastal Resource Management (OCRM) and National Marine Fisheries Service (NMFS) Office of Habitat Conservation (OHC), and DOI Office of Insular Affairs (OIA) are jointly providing approximately $2,100,000 in funding for cooperative agreements to support state and territorial coral reef and coral reef fishery management and conservation activities as listed in E(2) below.

Each jurisdiction need only develop and submit one comprehensive coral reef management application for the funds available under this section. The Federal agencies will coordinate their reviews of each application to ensure comparability and continuity. It is anticipated that OCRM will make awards to four of the seven jurisdictions and that DOI/OIA will make awards to the remaining three jurisdictions.

B. Eligibility Criteria

The eligible applicants are the governor-appointed point of contact agencies for coral reef activities in each of the jurisdictions of American Samoa, Florida, CNMI, Guam, Hawaii, Puerto Rico, and USVI. To be eligible for FY 2002 funding, the jurisdiction must have made reasonable progress in completing tasks under applicable FY 2000 and FY 2001 coral management awards, as evidenced in the required performance and financial reports.

C. Funding Availability and Mechanism

1. Funding Available

Approximately $2,100,000 in FY 2002 funding is available for Coral Reef and Coral Reef Fishery Management cooperative agreements. Support in out years after FY 2002 is contingent upon the availability of funds and the requirements of the Federal agency supporting the project. Each jurisdiction is eligible to receive an award ranging from a minimum of $225,000 to a maximum of approximately $400,000.

2. Funding Mechanism

Cooperative agreements will be awarded to each eligible jurisdiction. Proposals should cover a project period of 12 to 18 months with an anticipated start date of October 1, 2002.

D. Matching Funds

The requirements for matching funds under Section VIII of the Guidelines are applicable to funding available under this program. Specific information to be submitted in regard to matching funds can be found in the Proposal Content and Format Section below.

E. Proposal Content and Format

1. Proposal Content

Applications should reflect the National Coral Reef Action Strategy, the U.S. Coral Reef Task Force National Action Plan to Conserve Coral Reefs, and local strategies for coral reef management, such as the 1999, U.S. All Islands Coral Reef Initiative Strategy, as modified by the events and activities of the last 3 years. In addition, proposed activities should be coordinated, where appropriate, with ongoing and proposed NOAA coral reef mapping, monitoring, coastal zone and fishery management initiatives, and DOI Fish and Wildlife Service and National Park Service coral reef activities.

In developing the application, state and territorial applicants must consult with all relevant governmental and non-governmental entities involved in coral reef activities in their respective jurisdictions. Those agencies consulted must include coastal zone management, water quality, and wildlife and/or marine resource agencies.

Funding under this award is also intended to support jurisdictional participation in national coral reef planning activities, such as U.S. Coral Reef Task Force meetings. As such, applicants should include in their proposal, anticipated travel costs associated with attendance and participation at U.S. Coral Reef Task Force and other relevant meetings and conferences.

Applicants may submit applications covering up to an 18-month period. Applicants must meet all applicable Department of Commerce (DOC) or DOI grant requirements, and submit, with the final application package, all required Federal financial assistance awards forms. One original and two signed copies of the complete application must be submitted by the applicant to NOAA by the indicated due date.

2. Proposal Format

In developing the proposal, the applicant must organize proposed tasks into the following eleven (11) categories, which are based on those found in the National Action Plan to Conserve Coral Reefs:

a. Coral Reef and Associated Coastal Management Activities Including Marine Protected Area Management and Development, e.g., tasks to forward the conservation and management of coral reefs through planning, designation, implementation and evaluation of marine protected areas; including personnel training, equipment procurement, signage, monitoring and enforcement, etc.,

b. Mapping, Aerial Photography, and Digital/Satellite Imagery for Reef Conservation, e.g., developing benthic habitat maps or other Geographic Information System (GIS) data layers, etc., (such activities should be coordinated with the NOS coral mapping program),

c. Monitoring and Assessment of Coral Reefs or Reef Resources, e.g., baseline characterizations of reef ecosystems, workshops to standardize methods, database system development, purchase of equipment, training, etc. (Note: most, if not all of proposed monitoring projects, should be funded under the National Centers for Coastal and Ocean Science (NCCOS) Coral Reef Monitoring grant program discussed in Section V. below),

d. Targeted Research to Support Management, e.g., nutrient input modeling, coral recruitment studies, etc.,

e. Socio-economic and Resource Valuation, e.g., economic valuations, alternative income generation workshops, etc.,

f. Reducing Habitat Destruction, e.g., coastal zone management, vessel grounding prevention and management, mooring buoy installation, etc.,

g. Reducing Pollution:

(1) Oil-spill prevention and response, e.g., developing response plans, personnel training, interagency coordination, etc.;

(2) Marine debris prevention and removal, e.g., developing prevention policies, collection and disposal of debris, etc.; and

(3) Reducing impacts from land-based/watershed pollution source, e.g., Best Management Practices (BMP) planning and implementation, watershed restoration projects, etc.

h. Invasive Alien Species Management, e.g., policy development, mitigation projects, etc.,

i. Coral Reef Restoration, e.g., damage mitigation, coral transplantation, monitoring of restoration sites, etc.,

j. Public Education and Outreach, e.g., brochures and other informational materials, public meetings and workshops, etc., and,

k. Coral Reef Fisheries Management, in FY 2002, NMFS OHC has provided $350,000 of the total $2,100,000 to fund priority state and territorial coral reef fishery management activities. Proposed funding for coral reef fishery management tasks should range from $40,000 to $60,000 per jurisdiction, and should be budgeted within the jurisdiction's $225,000 to $400,000 comprehensive proposal. The mandate of NMFS is to build sustainable fisheries, recover protected species, and sustain healthy habitats for these species. These tasks should be developed in the same format as the other coral reef management tasks and included and submitted in the comprehensive application. Examples of eligible projects include:

(1) Assessment and monitoring of fish and fishery resources, collection of fishery information;

(2) Analysis of fishery impacts on reefs and support for the implementation of fishery gear restrictions or other priority regulations;

(3) Development of fishery reserves;

(4) Activities to improve management of ornamental reef species for the aquarium industry;

(5) Hiring or training of enforcement officers; and,

(6) Outreach and education on fishery and endangered species issues.

Large equipment and/or infrastructure acquisitions are not a priority for funding under this program. Such purchases proposed herein will be reviewed on a case by case basis with respect to the specific management objectives of this and the local coral reef program.

For each category in which a task is proposed, the applicant should include the following information:

a. A brief introduction that describes the status of the issue in the jurisdiction as addressed by the proposed task; recent actions undertaken to address the issues, with a focus on the status of previous federally funded tasks; the jurisdiction's strategy to address critical needs over the medium term; and, a justification for the proposed task.

b. A description of each proposed task that must include:

(1) Clear identification of the work to be completed, who will perform the work, relationship to ongoing projects and how the project fits into the jurisdiction's strategy for addressing the issue;

(2) How the project coordinates with relevant local governmental and non-governmental agencies and, if applicable, NOAA or DOI regional activities;

(3) Task timetable with interim benchmarks and clearly-defined work products; and,

(4) Project priority as compared to all other proposed projects.

c. A Summary Budget that includes a detailed breakdown of costs by category and information regarding the amount of matching funds available to the applicant, pursuant to Section IX(6) of the Guidelines. Intended sources of matching funds must be identified in the application. Applicants whose proposals are selected for funding will be required to submit with the final application, letter(s) of commitment to fund from the organization(s) providing matching funds.

F. Proposal Evaluation and Selection Criteria

1. Evaluation Criteria

Applications will be peer-reviewed by individuals with coral reef and fisheries management experience on the following equally weighted evaluation criteria, as evidenced by information in the application:

a. Documented need for the proposed coral reef management activity to fill gaps in the jurisdiction's management capacity;

b. Demonstrated coordination with applicable ongoing local, state, territorial, and Federal coral reef management activities;

c. Technical merit of the proposed management activity; and,

d. Ability of the work to be completed for the funding and timing proposed.

Subsequently, a Federal agency team of representatives from NMFS, OCRM, and OIA will review the applications, pursuant to equally weighted criteria described in Section X(3) of the Guidelines and comments received from peer reviewers. Based on this review, the team will make preliminary funding allocation recommendations for each jurisdiction.

2. Selection Criteria

OCRM will then provide a notice of intent to fund and proposal comments to each selected applicant. These comments will include input from peer reviewers and the Federal agency team and are intended for use in the applicant's development of the final application.

Upon receipt of the final application, complete with the requisite Federal financial assistance forms, the Federal agency team will review the complete package and make final funding recommendations based on the response to comments that were returned to the applicant. The team will submit these funding recommendations to the NOAA review panel for final review, pursuant to Section X(4) of the Guidelines.

If one or more applicants are ineligible to receive an award, NOAA and DOI will consult with the eligible applicants on the use of any residual funds. NOAA and DOI will work with each jurisdiction to ensure the greatest degree of success in meeting local, state, territorial, and national coral reef management needs.

G. Program Authority

Specific authority for the NOAA program is found in 16 U.S.C. 6403. NOAA proposals will be reviewed and awarded by OCRM under title, Coastal Zone Management Program, CFDA Number: 11.419.

V. State and Territory Coral Reef Ecosystem Monitoring

A. Program Description

This description provides requirements for applying for funding appropriated by Congress to the NOAA in FY 2002 to support state and territorial coral reef ecosystem monitoring. This program will be administered by NOS's National Centers for Coastal and Ocean Science.

NOAA and its partners designed and are implementing a nationally coordinated, comprehensive, long-term program to monitor and predict the condition of U.S. coral reef ecosystems. This program was requested by the U.S. Coral Reef Task Force, which, along with the nation's coral reef program managers and the public, endorsed and called for implementation of “A National Program to Assess, Inventory, and Monitor U.S. Coral Reef Ecosystems.”

NOAA began implementing the Program in 2000 and continues to administer it with Congressional appropriations for coral reef conservation. The Program includes the collection, analysis, and reporting of long-term coral reef ecosystem monitoring data pursuant to scientifically valid methodologies and protocols and is a key priority of the National Coral Reef Action Strategy.

The implementation plan calls for integration of now-disparate monitoring sites into a coordinated national network, sharing of monitoring information among U.S. coral reef resource managers and scientists, and filling gaps in monitoring coverage nationwide. Through this Program, U.S. Federal, state, commonwealth, and territorial agencies support a variety of local and regional assessments, inventories, and monitoring of U.S. coral reef resources. Additionally, there are several regional volunteer and community monitoring programs regularly assessing reef resources. A nationally coordinated coral monitoring infrastructure will enable the preparation of a biennial science-based report on the condition or “health” of U.S. coral reef ecosystems and support local coral reef management efforts.

The nation's coral reef resource managers have recommended a minimum suite of key biotic and abiotic parameters that should be monitored at all local sites in the national monitoring network:

1. Benthic habitat characterization (e.g., depth, habitat delineation, and/or percent live/dead cover of corals, submerged aquatic vegetation, macroalgae, sponges, rugosity, diversity, etc.);

2. Associated biological community structure including fish condition (e.g., abundance, density, size, diversity, disease, harvest trends) and large motile and sessile invertebrates condition (abundance, density, size, diversity, disease, harvest trends); and,

3. Water/substrate quality (e.g., temperature, nutrient enrichment, toxic chemicals, turbidity).

Proposed work should include multi-organizational partnerships (local, regional, Federal, and even international) that build local capacity for maintaining long-term monitoring sites as part of a National Coral Reef Monitoring Network. NOAA will be an active partner in the development and implementation of the award; thus, proposals should be structured as cooperative agreements between NOAA and the principal investigators. For these proposals, it is appropriate to include the equipment necessary to build capacity to archive biotic transects (e.g., one or more digital videography cameras with underwater housing, museum maintenance of reference specimen collections, etc.).

B. Eligibility Criteria

Eligible applicants are limited to the natural resource management agency in each U.S. state or territory, or Freely Associated State with jurisdiction over coral reefs, as designated by the respective governors or other applicable senior jurisdictional official. NOAA is requesting proposals from Puerto Rico, Florida, U.S. Virgin Islands, Hawaii, American Samoa, Guam, the Commonwealth of the Northern Mariana Islands, the Federated States of Micronesia, Republic of Palau, and the Republic of the Marshall Islands. Federal agencies are not eligible for funding under this Program.

C. Funding Availability and Mechanisms

1. Funding Available

Approximately $800,000 will be available in FY 2002 for coral reef ecosystem monitoring activities under this program. FY 2002 awards to each jurisdiction are expected to range from $50,000 to $100,000.

2. Funding Mechanism

Funds will be administered though non-competitive cooperative agreements between eligible organizations and NCCOS. Applicants may submit proposals up to 3 years in duration, at funding levels between $50,000-100,000 per year (i.e., up to $300,000 for 3 year continuation proposals). FY 2002 awards, however, will only provide funding for the monitoring activities proposed for FY 2002, and funding for out years is contingent on subsequent years' appropriations. Multiple-year proposals must specify the budget and activities for each year. Annual projects should follow the Federal fiscal year, beginning on October 1 and ending September 30.

D. Matching Funds

The requirements for matching funds under Section VIII of the Guidelines are applicable to funding available under this program. Specific information to be submitted in regard to matching funds can be found in the Proposal Content and Format section below.

E. Proposal Content and Format

1. Content

Proposal content should be developed and submitted according to the following guidelines:

a. First time applicants for monitoring awards: Eligible activities for the first year of proposed funding (i.e., FY 2002) include an initial characterization of baseline ecosystem condition, an inventory/mapping of biotic resources, and an assessment of anthropogenic stressors (e.g., contaminants in lagoon sediments, sedimentation conditions, eutrophication, etc.) if these studies are prerequisite to establishing new long-term monitoring sites. Activities can also include database development and training of field crew. Proposed second and third year work should follow the guidelines for previous recipients below.

b. Previous recipients of NCCOS monitoring awards: Proposals from previous recipients should detail the monitoring design, sampling parameters and protocols, data management, and the need/context for establishing new long-term monitoring sites. Proposals should describe how the proposed monitoring meets local coral conservation needs and fits into ongoing long-term assessments, inventories, and monitoring within the jurisdiction and/or region. Each proposal must provide enough specificity on the parameters to be monitored, the design and frequency of sampling, methods used, data management and quality assurance, and other information for peer-reviewers to judge the quality of proposed work. Of particular importance to creating a National Coral Reef Monitoring Network, each proposal must also address (1) how compatible the proposed data (e.g., data confidence limits, standardized protocols) will be with other jurisdictional and regional databases, and (2) when and in what format the data will be available to NOAA. The information produced through these awards is intended to fill gaps in knowledge of coral reef ecosystems nationwide, track and predict changes in coral reef ecosystems nationwide, and serve as the foundation for biennial reporting in the Report of the Health of U.S. Coral Reef Ecosystems.

In addition, each jurisdiction's proposal for FY 2002 must include the preparation of a comprehensive assessment of coral reef ecosystem health in FY 2003. This will be each jurisdiction's contribution to the Report on the Health of U.S. Coral Reef Ecosystems: 2004. Toward this end, FY 2002 proposals may budget for travel to at least one national workshop, costs for preparing and printing a jurisdictional report on the condition of coral reef ecosystems, and related expenses.

2. Proposal Format

Applicants must submit proposals in the following format:a. A Statement of Work (i.e., narrative description) for each proposed task that includes: the specific priority management questions that are driving the effort, how data collected will be translated and transferred to the local management community, project objectives, and a timetable with project milestones;

b. A Summary Budget that includes a detailed breakdown of costs by category and a description of the amount of matching funds available to the applicant, as described in Section IX(6) of the Guidelines. Intended sources of matching funds must be identified in the application. Applicants whose proposals are selected for funding will be required to submit letter(s) of commitment to fund from the organization(s) providing matching funds with the final application. Multiple-year proposals must specify the budget and activities for each year;

c. Curriculum Vitae for principal investigators;

d. Summary Project Abstract; and,

e. All required NOAA Federal financial assistance awards forms (see below). One original and two copies of the jurisdiction's application must be submitted to NOAA by the indicated due date.

The NOAA Grants Management Division program web site, http://www.rdc.noaa.gov/grants/index.html, provides detailed application instructions and electronic versions of Federal financial assistance forms. The two most relevant sections at this web site are, “C. Instructions and Guidelines,” and, “D. Application Forms for Initial Proposal Submission.” Applicants should review their application package prior to submission and be sure that all blocks on forms SF 424, SF-424A, SF-424B, CD-511, CD-512, and SF-LLL have been filled in completely.

Special note for monitoring program applicants filling out form SF-424: A paragraph explaining the qualification of the principal investigator's organization to do this work should be included in the Description of Work. The title should be Financial Assistance for National Centers of Coastal Ocean Science. In Block 13, the start date is always the first of the month; for ease in administering these as a block of grants, NOAA would prefer October 1, 2002, as the start date for all these cooperative agreements.

F. Proposal Evaluation and Selection Criteria

1. Evaluation Criteria

Proposals will be peer-reviewed by a small panel of representatives from relevant state, Federal and island agencies as well as the jurisdictional coral reef Points of Contact (POCs) (each POC will be asked to review one or more proposals from other jurisdictions, but never their own). Proposals will be peer-reviewed on the following criteria:

a. The jurisdiction's need for such work to fill gaps in monitoring coverage and build local capacity for long-term monitoring of coral reef ecosystems;

b. The quality of the proposed science and potential for the resulting data to be incorporated into a National Monitoring Network;

c. The ability of the principal investigators to conduct such work; and,

d. Support for the All Islands Coral Reef Initiative, in applicable jurisdictions.

Reviewer results will be shared with applicants, and applicants will be given the opportunity to revise their application and/or respond to reviewer comments.

Taking into consideration comments received from peer reviewers, NCCOS will evaluate each proposal and develop funding recommendations based on the criteria in Section X(3) of the Guidelines. In evaluating the technical merit and adequacy of the implementation plan, NCCOS will apply the following three equally weighted criteria:

a. Relevance to establishing a national monitoring network. The principal objective of the proposals should be to fill priority gaps or needs in coral reef monitoring and assessment programs, such that they contribute to the creation of a comprehensive and coordinated network of monitoring sites for U.S. coral reef ecosystems. In subsequent years, the project should be monitoring the “minimum suite of key biotic and abiotic parameters,” (as listed in the program description) at least once a year, at one or more sites;

b. Quality assurance and error estimates for parameter measurements. Flexibility of methodologies for acquiring measurements is allowable, as long as they are done in situ and are quantitatively reliable within a jurisdiction and across a region. Where possible, NOAA favors a stratified random sampling design for site selection (i.e., ideally based on reliable habitat maps), multi-methodological monitoring of the ecosystem (i.e., line transects for cryptic species, point-count surveys for large pelagic species), and sample archiving (i.e., species reference collections, transect/survey videographic records); and

c. Potential to meet data reporting requirements and the ability of transferring the data to the local or regional management community. Data from proposals must be useful in preparing the biennial report on the Health of U.S. Coral Reef Ecosystems. Grant recipients will provide raw or synthesized data to NCCOS no latter than 3 months after data collection. The data generated in the National Coral Reef Ecosystem Monitoring Program will by used by NOAA and its partners to develop regional and national state of the reef reports and disseminated to the public via NOAA's Coral Reef Information (CoRIS) Web site, currently under development. Biotic data integrity is critical for sharing of information and detection of national/regional trends and hotspots. Each jurisdiction will need to have basic data management quality controls and quality assurances for its data. Funding eligibility for future funding years will be contingent on meeting data submission deadlines including all reporting requirements and data transfers.

2. Proposal Selection

Based on these reviews, NCCOS will provide a notice of intent to fund and proposal comments to each selected applicant. These comments will include input from peer reviewers and the Federal agency team and are intended for use in the applicant's development of the final application.

Upon receipt of the final application, complete with the requisite Federal forms, the Federal agency team will review the complete package and make final funding recommendations based on the incorporation and/or response to comments that were returned to the applicant. NCCOS will submit these funding recommendations to the NOAA review panel for final review, pursuant Section X(4) of the Guidelines.

G. Program Authority

Specific authority for this program is found in 16 U.S.C. 6403. Proposals will be reviewed and awarded by NCCOS under title, Financial Assistance for National Centers of Coastal Ocean Science, CFDA 11.426.

VI. State and Territory Research to Support Development of Monitoring Technologies and Assessments

A. Program Description

This program supports the development and field-testing of methods to assess and monitor coral reef ecosystem health, function, and resilience. These are critical components of a research program to support the monitoring of coral reef ecosystems as outlined in the Strategy. Advances in technologies and assessment techniques using remote sensing, in situ observations, high-end computing, and integrative biological and physical measurements need to be incorporated into the “toolbox” available to coral reef ecosystem managers. For example, models and assessments will assist resource managers in evaluating alternative management strategies to improve the health of coral reef ecosystems.

Research is also needed to address development of appropriate indicators to define coral ecosystem health and function of reef ecosystems, such as coral and fish recruitment sources and sinks and explicit coupling of biological and physical models. These activities will directly support the NCCOS National Coral Reef Ecosystem Monitoring Program's key research questions relevant to establishing monitoring techniques that provide quantitative measures of coral ecosystem health, including reproduction, recruitment, growth, and survival of coral communities. In addition, the benefits from these research activities and subsequent products are directly applicable and will be applied to monitoring programs throughout the regions where they are conducted, as well as nationally.

B. Eligibility Criteria

Eligible applicants are those U.S. state and territory organizations eligible for cooperative agreements under the State and Territory Coral Reef Monitoring program described above. As such, eligible applicants are limited to the natural resource management agency with jurisdiction over coral reefs, as designated by the respective governors, in Puerto Rico, Florida, the U.S. Virgin Islands, Hawaii, American Samoa, Guam, and the Commonwealth of the Northern Mariana Islands. Multi-organizational partnerships with local, regional, Federal, international and academic partners, are highly encouraged. Federal agencies are not eligible for direct funding under this program.

C. Funding Availability and Mechanisms

1. Funding Available

Approximately $300,000 will be available in FY 2002 for targeted research that supports the NCCOS National Coral Reef Ecosystem Monitoring Program. Two awards of approximately $150,000 each will be made to eligible organizations. One award each will be made to an organization in the Pacific and Caribbean Regions. These funds are intended to enhance FY 2002 coral reef ecosystem monitoring awards to territory and state cooperative partners under the National Coral Reef Ecosystem Monitoring Program.

2. Funding Mechanism

Funds will be awarded through cooperative agreements developed between NCCOS and the selected agency. Proposals must be included as an addendum to the Coral Monitoring application submitted by the eligible agency under that program; however, multi-organizational partnerships with local, regional, Federal, international and academic partners, are highly encouraged. As such, a joint monitoring and research grant application package must be submitted. The application must include separate monitoring and research budget sheets and project descriptions.

Applicants may submit proposals up to 3 years in duration, at funding levels up to $150,000 per year (i.e., up to $450,000 for 3 year continuation proposals). FY 2002 awards, however, will only provide funding for the activities proposed for FY 2002, and funding for out-years is contingent on subsequent years' appropriations. Multiple-year proposals must specify the budget and activities for each year.

D. Matching Funds

The requirements described under the State and Territory Coral Reef Ecosystem Monitoring program apply to funding available under this program.

E. Proposal Content and Format

1. Proposal Content

Due to limited funding, only proposals that address the following two national monitoring program research priorities will be considered for funding:

a. Development of coral health indicators using remotely sensed oceanographic data; specifically developing meso-scale characterizations of bio-optical water quality to predict coral health at locations affected by land based run-off and/or other point and non-point source pollution; and,

b. Development of indices that identify threshold criteria of reproductive stress, recruitment failure, and/or mortality.

Applications must include an integrated research team made up of appropriate coral managers, research organizations, and other relevant local, regional, Federal, and international partners. Applicants must demonstrate capacity to perform such research, provide a topical publication history, and have a well-established field and laboratory infrastructure to be considered for this research grant. Proposals that have rigorous quality assurance and error estimates for parameter measurements are encouraged. There will be flexibility of methodologies for acquiring measurements as long as they are done in situ and are quantitatively reliable within a jurisdiction and across a region.

Products and data from proposals must be useful in developing coral management strategies under the appropriate authorities, and in the development of future biennial reports on the health of U.S. coral reef ecosystems (through monitoring). As such, applicants who have demonstrated working relationships with management authorities are preferred.

All data must be made accessible to NOAA in a timely fashion for data archiving. Summaries of data will be required on at least an annual basis. Each proposal must address what specific, priority management questions are driving the effort and how its data will be translated and transferred to the local and regional management community.

2. Proposal Format

Applicants must submit proposals in the following format:

a. Introduction explaining how the project will help the National Monitoring Network;

b. Rationale;

c. Link to Existing Coral Reef Ecosystem Monitoring Study in the jurisdiction where the project is proposed;

d. Anticipated Outcomes;

e. Milestone Dates;

f. A Summary Budget that includes a detailed breakdown of costs by category and a description of the amount of matching funds available to the applicant, as described in Section IX(6) of the Guidelines. Intended sources of matching funds must be identified in the application. Applicants whose proposals are selected for funding will be required to submit with the final application, letter(s) of commitment to fund from the organization(s) providing matching funds; and,

g. Personnel.

F. Proposal Evaluation and Selection Criteria

1. Evaluation Criteria

Proposals will be peer-reviewed by a small panel of representatives from relevant state, Federal and island agencies as well as the jurisdictional coral reef Points of Contact (POCs). Each POC will be asked to review one or more proposals from other jurisdictions. Reviewer results will be shared with applicants, and applicants will be given the opportunity to revise their application and/or respond to reviewer comments. Proposals will be peer-evaluated on the following equally weighted criteria:

a. The potential to meet reporting requirements in a timely manner, to provide data and research products to NOAA's Coral Reef Information System (CoRIS) Web site, currently under development;

b. The demonstrated capacity of the applicant to perform the proposed research; and,

c. The proposed quality assurance and error estimates and their relevance to the development of coral reef ecosystem management strategies and the biennial reports on the health of U.S. coral reef ecosystems. As such, applicants who have demonstrated working relationships with management authorities are preferred.

Taking into consideration comments received from peer reviewers, NCCOS will review the applications, pursuant to equally weighted criteria described in Section X(3) of the Guidelines. Based on this programmatic review, the team will make preliminary funding decisions.

2. Selection Criteria

NCCOS will then provide a notice of intent to fund and proposal comments to each selected applicant. These comments will include input from peer reviewers and NCCOS review and are intended to be used in the applicant's development of the final application.

Upon receipt of the final application, complete with the requisite Federal forms, NCCOS will review the complete package and make final funding recommendations based on the incorporation and/or response to comments that were returned to the applicant. NCCOS will submit these funding recommendations to the NOAA review panel for final review, pursuant to Section X(4) of the Guidelines.

G. Program Authority

Specific authority for this program is found in 16 U.S.C. 6403. Proposals will be reviewed and awarded by NCCOS under title, Financial Assistance for National Centers of Coastal Ocean Science, CFDA Number 11.426.

VII. General Coral Reef Conservation

A. Program Description

This description provides guidance for applying for funding appropriated by Congress to NOAA in FY 2002 to support efforts by governmental and non-governmental entities to conserve the coral reef ecosystems of the United States and the Freely Associated States in the Pacific (Republic of Palau, the Republic of the Marshall Islands, and the Federated States of Micronesia). This program will be administered by the National Marine Fisheries Service (NMFS) Office of Habitat Conservation (OHC).

The objective of this program is to support programs and projects in U.S. states and territories and the Freely Associated States, including projects that involve local communities and non-governmental organizations, to:

1. Help preserve, sustain and restore the condition of coral reef ecosystems;

2. Promote the wise management and sustainable use of coral reef resources;

3. Develop sound scientific information on the condition of coral reef ecosystems and the threats to such ecosystems; and

4. Increase public knowledge and awareness of coral reef ecosystems and issues regarding their conservation.

B. Eligibility Criteria

Eligible applicants include institutions of higher education, non-profit organizations, commercial organizations, state, local and Indian tribal governments and natural resource management authorities with demonstrated expertise in the conservation of coral reefs, or with jurisdiction over coral reefs, or whose activities directly or indirectly affect coral reefs or coral reef ecosystems. Proposals from U.S. state and territory government agencies will only be accepted for projects which promote advances in coral reef conservation and management issues of National or Regional importance and include partnerships with organizations not eligible under other sections. Core state and territorial coral reef management activities should be funded under Section IV above. Federal agencies are eligible under this program; however, pursuant to Section IV of the Guidelines, such proposals will be a low priority unless they are an essential part of a cooperative project with other eligible governmental or non-governmental entities. In order for a Federal agency to receive an award under this program, it must provide the requisite statutory authority to receive funds from a federal agency for these purposes. Please note that the Economy Act, 31 U.S.C. 1535, is not sufficient legal authority because NOAA is not procuring goods or services from the federal agency. Regional Fishery Management Councils are not eligible under this program.

C. Funding Availability and Mechanisms

1. Funding Available

Approximately $500,000 in funding is available in FY 2002 for awards under this program. It is expected that most awards will range from a minimum of $15,000 to a maximum of approximately $75,000.

2. Funding Mechanism

Proposals selected for funding from non-Federal applicants will be funded through a project grant or cooperative agreement under the terms of this document. Proposals selected for funding from Federal agencies will be funded through an interagency agreement. Generally, NMFS will make awards only to those projects where requested funding will be used to complete proposed activities within a period of 18 months from the approved start date of the project.

D. Matching Funds

The requirements for matching funds under Section VIII of the Guidelines are applicable to funding available under this program. Specific information to be submitted in regard to matching funds can be found in the Proposal Content and Format section here.

E. Proposal Content and Format

1. Proposal Content

Applications should support the National Coral Reef Action Strategy and the following goals of the U.S. Coral Reef Task Force National Action Plan to Conserve Coral Reefs: A.II. Assess and Monitor Reef Health; A.III. Conduct Strategic Research; A.IV. Understand Social and Economic Factors; B.I. Improve Use of Marine Protected Areas (MPAs); B.II. Reduce Impacts of Fishing; B.IV. Reduce Pollution; B.V. Restore Damaged Reefs; and B.VI. Improve Education. In addition, proposed activities should be coordinated, where appropriate, with ongoing and proposed NOAA mapping, monitoring, and coral reef or fishery management initiatives, and DOI Fish and Wildlife Service and National Park Service coral reef activities.

Applicants must consult with all relevant state, territorial, and local governmental and non-governmental entities involved in coral reef activities in developing the application. Local government agencies that must be consulted include coastal zone management, water quality, and wildlife and/or marine resource agencies.

Applicants may submit applications covering a 12 to 18-month period, and must meet all applicable DOC grant requirements, and submit, with the final application package, all required Federal financial assistance forms. One original and two signed copies of the complete application must be submitted by the applicant to NOAA by the indicated due date.

2. Proposal Format

In developing the proposal, the applicant must catagorize proposed tasks into the following 8 categories, which are based on a subset of those found in the National Action Plan:

a. Monitoring and Assessment of coral reefs or reef resources; e.g., community or non-governmental organization monitoring or assessment programs that complement State or Territorial coral reef monitoring programs funded out of the NCCOS Coral Reef Monitoring Award,

b. Targeted research, e.g., studies that improve the understanding of coral reef ecosystems, their ecology and processes, and that are necessary to improve the management of these ecosystems,

c. Socio-economic and Resource Valuation, e.g., community assessments, economic valuations, alternative income generation workshops, etc.,

d. Marine Protected Areas and associated management activities, especially assessment of the gaps in protection of existing marine protected area systems, and outreach and education efforts,

e. Coral Reef Fisheries Management, e.g., resource assessments, collection of fishery information, outreach to fishers, co-management of coral reef fisheries by fishing communities, etc.,

f. Reducing Pollution, e.g.,marine debris prevention and removal, reducing impacts from land-based/watershed pollution sources, etc.,

g. Coral Reef Restoration, e.g., restoration of coral reef habitats resulting from physical and biological disturbances such as orphan vessel groundings, storm events, coral disease and coral predator outbreaks, and anthropogenic disturbances, particularly projects utilizing innovative coral restoration technologies and/or comprehensive evaluation of restoration sites, and

h. Public Education and Outreach activities, e.g., brochures and other informational materials, public meetings and workshops, etc., particularly those which address the needs of local user groups.

The following projects will not be eligible for funding:

(1) Activities that constitute legally required mitigation for the adverse effects of an activity regulated or otherwise governed by state or Federal law;

(2) activities that constitute mitigation for natural resource damages under Federal or state law, and

(3) activities that are required by a separate consent decree, court order, statute or regulation.

Funding available under this program may be sought to enhance coral reef conservation activities beyond the scope legally required by these activities.

For each project proposed, the applicant should include the following:

1. An introduction, not to exceed one page, that describes:

a. The status and magnitude of the issues in the jurisdiction where the project will take place;

b. Recent actions undertaken to address the issues, with a focus on federally-funded tasks; and

c. How the project fits into the jurisdiction's strategy to addressing critical coral reef conservation needs the next two to three years.;

2. A description of each proposed task that includes:

a. Clear identification of the work to be completed and who will perform the work;

b. How the project coordinates with relevant state, territorial, or local governmental and non-governmental agencies and, if applicable, NOAA regional activities;

c. A Summary Budget that includes a detailed breakdown of costs by category and information regarding the amount of matching funds available to the applicant, pursuant to Section IX(6) of the Guidelines. Intended sources of matching funds must be identified in the application. Applicants whose proposals are selected for funding will be required to submit with the final application, letter(s) of commitment to fund from the organization(s) providing matching funds; and

d. Task timetable with interim benchmarks and clearly defined work products.

F. Proposal Evaluation and Selection Criteria

1. Evaluation Criteria

Proposals will be peer-reviewed on the following equally weighted evaluation criteria by individuals with coral reef conservation experience:

a. Documented need for the proposed coral reef activity in the jurisdiction;

b. Demonstrated coordination with applicable ongoing local, state, territorial, and Federal coral reef management activities;

c. Technical merit of the proposed activity;

d. Ability of the work to be completed for the funding and timing proposed (projects that can be completed within 18 months of the start date will receive a higher ranking); and,

e. Evidence presented of the capacity of the applicant to conduct the proposed work, including past performance on similar projects or programs involving coral reef ecosystems.

NOAA will also request and consider written comments on proposed projects from each agency with jurisdiction over coral reef ecosystems in the area where the project is to be conducted, pursuant to Section X(1) of the Guidelines.

NMFS will then review the applications, consistent with the equally weighted criteria listed in Section X(3) of the Guidelines and comments received from peer reviewers and jurisdictions. Based on this review, NMFS will make preliminary funding decisions. These preliminary funding decisions will be submitted to the NOAA review team, pursuant to Section X(4) of the Guidelines. The review team will ensure that the preliminary funding decisions are consistent with the geographic distribution requirements of 16 U.S.C. 6403(d).

2. Selection Criteria

Based on these cumulative reviews, NMFS will provide a notice of intent to fund and proposal comments to each selected applicant. These comments will include input from peer reviewers, the solicited jurisdictions, and the NMFS review, and are intended to be used in the applicant's development of the final proposal.

Upon receipt of the final application, complete with the requisite Federal forms, NMFS will review the complete package and make final funding recommendations based on the incorporation of and/or response to comments that were returned to the applicant. NMFS will submit these funding recommendations to the NOAA review panel for final review, pursuant to Section X(4) of the Guidelines. The review panel will ensure that funding decisions are consistent with the geographic distribution requirements of 16 U.S.C. 6403(d). As a result, awards may not necessarily be made to the highest scoring proposals.

If insufficient eligible projects are received, NOAA may shift residual funds from this program area to another program area.

G. Program Authority

Specific authority for this program is found in 16 U.S.C. 6403. Proposals will be reviewed and awarded by the National Marine Fisheries Service Office of Habitat Conservation under title, Habitat Conservation, CFDA 11.463.

VIII. Regional Fishery Management Council Coral Reef Fishery Management Plans

A. Program Description

This description provides guidance for applying for funding appropriated by Congress to NOAA in FY 2002 to support conservation and management of coral reef fisheries by Regional Fishery Management Councils with responsibilities for Fishery Management Plans that include shallow water coral reefs or fishery resources that depend on these reef ecosystems, as established under the Magnuson-Stevens Fishery Conservation and Management Act (16 U.S.C. 1801 et seq.). This program will be administered by the NMFS Office of Habitat Conservation (OHC).

B. Eligibility Criteria

Applicants are limited to the Western Pacific Regional Fishery Management Council, South Atlantic Fishery Management Council, Gulf of Mexico Fishery Management Council, and Caribbean Fishery Management Council.

C. Funding Availability and Mechanisms

1. Funding Available

NMFS OHC will provide approximately $1,500,000 in FY 2002 funding for cooperative agreements to support coral reef conservation activities under this program. In order to ensure the regional balance called for by the Act, a maximum of $750,000 will be available for activities in the Western Pacific, and a maximum of $750,000 will be available for activities in the South Atlantic, Gulf of Mexico, and Caribbean.

2. Funding Mechanism

Cooperative agreements will be awarded to each eligible Regional Fishery Management Council. Proposals should cover a project period of 12 to 18 months with an anticipated start date of October 1, 2002.

D. Matching Funds

The Administrator has waived the matching requirement of Section VIII of the Guidelines for the Fishery Management Councils. This waiver is based on the fact that the Councils are funded solely by awards from the U.S. Federal Government, and, therefore, do not have the ability to generate matching funds.

E. Proposal Content and Format

1. Proposal Content

Applications should support the National Action Strategy and the U.S. Coral Reef Task Force National Action Plan to Conserve Coral Reefs. In addition, proposed activities should be coordinated, where appropriate, with ongoing and proposed NOAA mapping, monitoring, and fishery management initiatives, and State and Territorial coral reef conservation initiatives in their own waters contiguous to the Federal Exclusive Economic Zone.

Fishery Management Councils must consult with state and territorial agencies and all other relevant local governmental and non-governmental entities involved in coral reef activities in developing applications.

Applicants may submit applications covering a 12 to 18-month period, and must meet all applicable DOC grant requirements, and submit, with the final application package, all required Federal financial assistance forms. One original and two signed copies of the complete application must be submitted by the applicant to NOAA by the indicated due date.

Eligible activities are those that support the objectives of the Strategy's goal of Reducing the Adverse Impacts of Fishing and other Extractive Uses on Coral Reefs and incorporating these objectives into existing or new Federal fishery management plans. Proposed activities should be in addition to those currently supported by NMFS and should not replace support for existing Council staff. The following represent priority activities for funding:

a. Identifying, mapping and characterizing important essential fish habitat, habitat areas of particular concern, and spawning populations in U.S. coral reef ecosystems, especially those associated with areas that are currently, permanently, or seasonally closed to fishing or that may merit inclusion in an expanded network of no-take ecological reserves. Eligible activities would include multi-beam or sidescan sonar mapping and characterization of such areas on deeper coral reefs, banks and beds;

b. Monitoring reef fish stocks in existing no-take marine reserves and reference sites to evaluate the effectiveness of reserves;

c. Developing proposals to reduce over-fishing of coral reef resources, including background information on currently unassessed coral reef fishery stocks;

d. Identifying adverse effects of fishing and fishing gear on essential fish habitat and implementing actions to reduce these effects;

e. Eliminating destructive and habitat-damaging fishing practices;

f. Assessing the adequacy of current fishing regulations and the need for additional gear and anchoring restrictions to reduce habitat damage;

g. Providing enhanced education and outreach to recreational and commercial fishers to reduce the adverse impacts of fishing on coral reef ecosystems;

h. Incorporating ecosystem-scale considerations into coral reef fishery management plans;

i. Conducting targeted research to understand ecosystem effects of fishing, including: the development of models and studies to improve our understanding of larval pathways, trophic interactions and their ecosystem impacts associated with fishing, and habitat impacts associated with certain types of fishing gear and practices; and

j. Reducing the overexploitation of reef organisms for the aquarium trade.

2. Proposal Format

For each discrete task or activity, the applicant must include:

a. An introduction, not exceeding one page, that describes:

(1) The status and magnitude of the issues in the Council's jurisdiction;

(2) Recent actions undertaken to address the issues, with a focus on federally funded tasks; and,

(3) The Council's strategy to address critical needs over the medium term (the next 2 to 3 years).

b. A description of each proposed task that should include:

(1) Clear identification of the work to be completed, who will perform the work, and how the project fits into the Council's strategy for addressing the larger issue;

(2) How the project coordinates with relevant local governmental and non-governmental agencies and, if applicable, NOAA regional activities;

(3) Summary budget;

(4) Task timetable with interim benchmarks and clearly defined work products; and,

(5) Project priority as compared to all other proposed projects.

F. Proposal Evaluation and Selection Criteria

1. Evaluation Criteria

Proposals will be peer-reviewed on the following equally weighted evaluation criteria by individuals with coral reef conservation experience:

a. Documented need for the proposed coral reef activity in the jurisdiction of the Council;

b. Demonstrated coordination with applicable ongoing local, state, territorial, and Federal coral reef management activities;

c. Technical merit of the proposed activity;

d. Ability of the work to be completed for the funding and timing proposed; and,

e. Evidence presented of the capacity of the applicant to conduct the proposed work, including past performance on similar projects or programs involving coral reef ecosystems.

NOAA will also request and consider written comments on proposed projects from each agency with jurisdiction over coral reef ecosystems in the area where the project is to be conducted, pursuant to Section X(1) of the Guidelines.

A NMFS team of representatives from the OHC, the Southeast Region, the Southeast Fishery Science Center, the Pacific Islands Area Office and the Southwest Fishery Science Center's Honolulu Laboratory will review the applications, consistent with the equally weighted criteria listed in Section X(3) of the Guidelines and consider comments received from peer reviewers and appropriate management authorities.

Based on this review, the team will make preliminary funding decisions. These preliminary funding decisions will be submitted to the NOAA review team, pursuant to Section X(4) of the Guidelines.

2. Selection Criteria

Based on these cumulative reviews, NMFS will provide a notice of intent to fund and proposal comments to each selected applicant. These comments will include input from peer reviewers, jurisdictions, the NMFS review team, and are intended to be used in the applicant's development of the final proposal.

Upon receipt of the final application, complete with the requisite Federal financial assistance forms, the NMFS team will review the complete package and make final funding recommendations based on the incorporation of and/or response to comments that were returned to the applicant. The team will submit these funding recommendations to the NOAA review panel for final review, pursuant to Section X(4) of the Guidelines.

If proposals from one or more Councils are ineligible to receive funding, NOAA may award those residual funds for eligible activities proposed by another Council or move the residual funds to a different program area. NOAA will work with each Council to ensure the greatest degree of success in meeting that the goals of the Strategy.

G. Program Authority

Specific authority for this announcement is found in 16 U.S.C. 6403. These cooperative agreements will be reviewed and awarded by the NMFS OHC under title, Regional Fishery Management Councils, CFDA Number: 11.441.

IX. International Coral Reef Conservation

A. Program Description

This description provides guidance for applying for funding appropriated by Congress to NOAA in FY 2002 to support the international conservation and management of coral reef ecosystems. These funds will be administered by NOS International Program Office (IPO).

The Act authorizes cooperative conservation and management of coral reefs and coral reef ecosystems with local, regional, or international programs and partners. The National Action Plan to Conserve Coral Reefs (National Action Plan) calls on the U.S. to, “exercise global leadership in the international arena in shaping and developing environmentally sound and comprehensive coral reef policy, strengthen international conventions and foster strategic partnerships with other countries, international organizations and institutions, the public and private sectors, and non-governmental organizations to address international threats to coral reef ecosystems.”

This program has four objectives:

1. Promote Monitoring of Coral Ecosystems: The National Action Plan gives priority to collaboration with the Global Coral Reef Monitoring Network (GCRMN), recognizing the importance of its biennial Status of Coral Reefs of the World reports, and extensive partnerships with regional and national monitoring efforts. Therefore, activities will focus on expanding biophysical monitoring networks that contribute to understanding the status of coral reefs, promoting public awareness, and contributing to local management objectives. In FY 2002, emphasis will be placed on community participation in monitoring programs, communication of results to policy makers, and commitment to make data available to the GCRMN Data Centre at the International Centre for Living Aquatic Resources.

2. Enhance Management Effectiveness of Marine Protected Areas (MPAs): The National Action Plan calls for strengthening the protection of resources within existing MPAs. NOAA has launched strategic partnerships with the World Conservation Union's (IUCN) World Commission on Protected Areas (WCPA) and World Wildlife Fund (WWF)International to improve the management of MPAs by providing managers, planners, and other decision-makers with methods for assessing the effectiveness of MPA sites and national systems of MPAs. Therefore, funded activities will focus on assessing the effectiveness of management at those pilot coral MPAs that apply and test the approach and indicators developed therein.

3. Encourage Regional Approaches to Further Marine Reserves in the Caribbean and Southeast Asia: The National Action Plan highlights the role that highly protected areas (i.e., no-take ecological reserves) play in creating a network of coral marine protected areas for biodiversity conservation and sustainable fisheries management. Through this program, IPO will fund activities that support the development of networks of marine reserves in the Caribbean and Southeast Asia. IPO will fund regional-level activities that promote the design and implementation of no-take marine reserves such as awareness campaigns on the value of marine reserves for government officials and policy makers throughout the region, or training workshops on sustainable financing mechanisms for marine reserve management. The Caribbean and Southeast Asia regions were selected in part because of the substantial interest and existing experience with marine reserves.

4. Promote the Use of Socio-Economic Assessments in Marine Protected Areas: The National Action Plan recognizes that the human dimension is often overlooked in developing coral reef management strategies and calls for measures to enhance understanding of stakeholder benefits and resolve important user conflicts. Recognizing the importance of the human dimension, the GCRMN, in partnership with NOAA, WCPA, and the Australian Institute of Marine Science (AIMS), recently published The Socioeconomic Manual for Coral Reef Management, a guide to conducting socioeconomic assessments of reef user groups.

As follow-up, the GCRMN and NOAA are working to develop socioeconomic monitoring approaches specific to Southeast Asia and the Caribbean and are planning training workshops for reef managers to learn how to conduct these assessments. The final, critical phase will be for the workshop participants to return to their sites and establish socioeconomic monitoring programs.

Through this program, IPO will fund the establishment of socioeconomic monitoring programs at MPA sites in Southeast Asia and the Caribbean. These monitoring programs are intended to help managers better understand the communities whose activities affect the MPA and who are affected by MPA management decisions. The socioeconomic information from the monitoring programs is, therefore, intended to be used in MPA management.

B. Eligibility Criteria

Eligible applicants include all international governmental and non-governmental entities, including the Federated States of Micronesia, Republic of Palau, and the Republic of the Marshall Islands, as noted below. Specific guidance for each type of project is noted below:

1. Applications for projects to “Promote Monitoring of Coral Ecosystems” must include:

a. A strategy for submission of data to the GCRMN, as well as the means to document transmission of data to the GCRMN data center at the International Center for Living Aquatic Resources Management in the evaluation section of the report.

b. Evidence of commitment and capability to continue periodic monitoring after the grant period ends. Monitoring may include training at national or regional levels or in situ data collection.

2. Applications for projects to “Enhance Management Effectiveness of Marine Protected Areas” must include:

a. Incorporation of the approach being developed by the WCPA-Marine/WWF International MPA Management Effectiveness Initiative, in particular, use of the Initiative's effectiveness indicators (http://ipo.nos.noaa.gov/mgmteffect/indicatorlists.html). Projects should use these indicators to test their applicability and to determine if the indicators provide results on the effectiveness of a site's management goals and objectives;

b. The method to implement these indicators should be based on the IUCN publication, Evaluating Effectiveness: A Framework for Assessing the Management of Protected Areas (http://wcpa.iucn.org/pubs/pdfs/evaluating_effect.pdf). Project leaders should be in consultation with the WCPA-Marine/WWF International MPA Management Effectiveness Initiative, and follow the ongoing development of the draft guidelines for MPAs; and

c. In order to be selected, project sites must:

(1) Have a management program in place, including a management plan, on-site staff, and infrastructure to carry out effectiveness assessments;

(2) Be able to implement the WCPA approach and test biophysical, socioeconomic and governance indicators;

(3) Demonstrate the intent to incorporate the assessment of indicators into management planning and review process; and

(4) Include a letter of support from the MPA managing authority or site supervisor, which also demonstrates the involvement of the authority/supervisor in the project if the agency is not proposing the work.

3. Applications for projects to “Encourage Regional Approaches to Further Marine Reserves in the Caribbean and Southeast Asia” must:

a. Benefit more than one particular site;

b. Be supported by regional-level conservation organizations and/or at least three marine reserve sites; and,

c. Address a recognized regional need as demonstrated by documentation in regional reports, conference statements or elsewhere.

4. Applications for projects to “Promote the Use of Socio-Economic Assessments in Marine Protected Areas” must:

a. Link with an existing or planned marine resource management program (e.g., MPA, fisheries management program, coastal management program) with clearly defined goals (note: these would preferably include socioeconomic goals, such as improve livelihood, increase environmental awareness, etc.);

b. Include a letter of support from the marine resource management authority;

c. Incorporate one or more of the approaches outlined in the Socioeconomic Manual for Coral Reef Management (http://www.reefbase.org/);

d. Demonstrate commitment to participating in the planned socioeconomic training workshop;

e. Identify the people who will conduct the socioeconomic monitoring either from staff or others (e.g., local university);

f. Demonstrate involvement of marine management staff in the proposed monitoring even if personnel not engaged in site-management are overseeing the monitoring;

g. Identify how the people conducting the assessments will be involved in marine management beyond the periodic monitoring (i.e., as opposed to an outside entity conducting the assessment and then leaving); and,

h. Identify how the socioeconomic data resulting from the monitoring program will be incorporated into decision-making for the marine resource management program.

C. Funding Availability and Mechanisms

1. Funding Available

Approximately $300,000 will be available in FY 2002 to support grants and cooperative agreements under this program. Approximately $75,000 will be allocated to each of the four program areas described below. Most awards will range from $30,000-$40,000. Support in out-years after FY 2002 is contingent upon the availability of funds and any new guidance issued in the Federal Register.

2. Funding Mechanism

Grants and cooperative agreements will be reviewed and awarded by the International Program Office. Full proposals should cover a project period of 12 to 18 months with an anticipated start date of October 1, 2002.

D. Matching Funds

The requirements for matching funds under section VIII of the Guidelines are applicable to funding available under this program. Specific information to be submitted in regard to matching funds can be found in the Proposal Content and Format Section below.

E. Proposal Content and Format

1. Proposal Content

Each of the four International Program themes are priorities of the National Action Plan. Applicants may submit applications covering a 12 to 18-month period, must meet all applicable DOC grant requirements, and submit with the final application package, all required Federal financial assistance forms. A complete Federal financial assistance awards package is required. One original and two signed copies of the proposal must be submitted to NOAA.

2. Proposal Format

Each application must include the following elements:

a. A cover sheet with the following:

(1) Name of the individual or entity responsible for conducting the project;

(2) Nature of Applicant: nonprofit, university, government, individual, etc.;

(3) Project name;

(4) One paragraph project summary;

(5) Location of Project and site;

(6) Indication of the relevant International Project Category; and,

(7) Grant Request and matching funds.

b. A description of the qualifications of the individual(s) who will conduct the project

c. Project Description which must address the specific project category eligibility criteria described in B above and also include:

(1) Project need;

(2) Objectives;

(3) Implementation strategy;

(4) Identification of how project fits into applicant (and site) strategy for management;

(5) Project products and outcomes;

(6) Partner justification and roles;

(7) A methodology to evaluate the success of the project;

(8) A Summary Budget that includes a detailed breakdown of costs by category and a description of the amount of matching funds available to the applicant, as described in Section IX(6) of the Guidelines. Intended sources of matching funds must be identified in the application. Applicants whose proposals are selected for funding will be required to submit with the final application, letter(s) of commitment to fund from the organization(s) providing matching funds; and,

(9) Task timetable with interim benchmarks linked to clearly defined work projects.

d. Evidence of support for the project from the local management authority where the work is conducted at specific sites to support local management objectives. In those cases where training is envisaged, (e.g., training in monitoring), indication that participants will apply new techniques at their local sites is requested. Evidence of coordination with relevant national and regional project partners, including a list of agencies consulted in developing the proposal.

F. Proposal Evaluation and Selection Criteria

1. Evaluation Criteria

IPO will provide for a merit-based peer review and standardized documentation of that review for proposals that meet the eligibility requirements. Each proposal will be reviewed by a minimum of three individuals with knowledge of the subject of the proposal. Each reviewer will submit a separate and individual review and reviewers will not provide a consensus opinion. The identities of the peer reviewers will be kept anonymous to the degree permitted by law. Peer reviewers will apply the following equally weighted evaluation criteria:

a. Documented need for the proposed coral reef activity in the jurisdiction;

b. Demonstrated coordination with applicable ongoing national and regional reef management activities;

c. Technical merit of the proposed activity;

d. Ability of the work to be completed for the funding and timing proposed; and,

e. Evidence presented of the capacity of the applicant to conduct the proposed work, including past performance on similar projects or programs involving coral reef ecosystems.

NOAA may also request and consider written comments on proposed projects from agencies with jurisdiction over coral reef ecosystems in the area where the project is to be conducted, as described in Section X(1) of the Guidelines. Under the international grant program, NOAA will request and consider written comments on the proposal from relevant U.S. government agencies such as the Agency for International Development and Department of the Interior; foreign governments and their coral management agencies; and other international entities as necessary. Each entity will be provided 21 days to review and comment on subject proposals. Comments submitted will be part of the public record.

IPO will then review the applications, consistent with the equally weighted criteria listed in Section X(3) of the Guidelines and comments received from peer, agency, and jurisdiction reviewers. Based on this review, the team will make preliminary funding decisions.

2. Selection Criteria

Based on these cumulative reviews, IPO will provide a notice of intent to fund and proposal comments to each selected applicant. These comments will include input from peer reviewers, agencies, jurisdictions, and IPO, and are intended to be used in the applicant's development of the final proposal.

Upon receipt of the final application, complete with the requisite Federal forms, IPO will review the complete package and make final funding recommendations based on the incorporation of, and response to, comments that were returned to the applicant. IPO will submit these funding recommendations to the NOAA review panel for final review, pursuant to Section X(4) of the Guidelines to ensure that the Act's requirements for geographic funding distribution and consistency with the overall program goals outlined in the Strategy.

G. Program Authority

Specific authority for this program is found in 16 U.S.C. 6403. Grants and cooperative agreements will be reviewed and awarded by the NOS International Program Office under title, Habitat Conservation, CFDA: 11.463.

X. General Information for All Programs

The budget may include an amount for indirect costs if the applicant has an established indirect cost rate with the Federal government. Indirect costs are essentially overhead costs for basic operational functions (e.g., lights, rent, water, insurance) that are incurred for common or joint objectives and, therefore, cannot be identified specifically within a particular project. For this solicitation, the Federal share of the indirect costs must not exceed the lesser of either the indirect costs the applicant would be entitled to if the negotiated Federal indirect cost rate were used or 25 percent of the Federal direct costs proposed. For those situations in which the use of the applicant's indirect cost rate would result in indirect costs greater than 25 percent of the Federal direct costs proposed, the difference may be counted as part of the non-Federal share. A copy of the current, approved negotiated indirect cost agreement with the Federal Government should be included with the application. If the applicant does not have a current negotiated rate and plans to seek reimbursement for indirect costs, documentation necessary to establish a rate must be submitted within 90 days of receiving an award.

Applicants receiving funding will be required to submit semiannual performance reports and copies of all products that are developed under the award. The specific information, products, or data to be submitted to NOAA will be determined by the program office and applicant in pre-award negotiations.

If an application is selected for funding, NOAA has no obligation to provide any additional prospective funding in connection with that award in subsequent years. Any subsequent proposal to continue work on an existing project must be submitted to the competitive process for consideration and will not receive preferential treatment. Renewal of an award to increase funding or to extend the period of performance is at the total discretion of NOAA.

The recipients must comply with Executive Order 12906 regarding any and all geospatial data collected or produced under grants or cooperative agreements. This includes documenting all geospatial data in accordance with the Federal Geographic Data Committee Content Standard for digital geospatial data.

Classification

This is a new Program and will be added to the Catalog of Federal Domestic Assistance under the Coastal Zone Management Act (11.419), Financial Assistance for National Centers for Coastal Ocean Science (11.426), and Habitat Conservation (11.463). The Program uses only the existing NOAA Federal financial assistance awards package requirements per 15 CFR parts 14 and 24.

The Department of Commerce Pre-Award Notification Requirements for Grants and Cooperative Agreements contained in the Federal Register Notice of October 1, 2001, will be applicable to solicitations under this Program. However, please note that the Department of Commerce will not implement the requirements of Executive Order 13202, pursuant to guidance issued by the Office of Management and Budget (OMB) in light of a court opinion which found that the Executive Order was not legally authorized. See Building and Construction Trades Department v. Allbaugh, 172 F. Supp. 2d 138 (D.D.C. 2001). This decision is currently on appeal. When the case is finally resolved, the Department will provide further information on implementation of Executive Order 13202.

The program will determine National Environmental Policy Act (NEPA) compliance on a project by project basis.

This action has been determined to be not significant for purposes of Executive Order 12866.

The use of the Federal financial assistance awards package referred to in this notice involves collection-of-information requirements subject to the Paperwork Reduction Act. The use of Standard Forms 424, 424A, 424B and SF-LLL have been approved by OMB under the respective control numbers 0348-0043, 0348-0044, 0348-0040, and 0348-0046.

This notice also contains a collection-of-information requirement subject the Paperwork Reduction Act and which has been approved by OMB under control number 0648-0448. The public reporting burden is estimated to average one hour per response for comments on a proposed project from each agency with jurisdiction over coral reef ecosystems in the area where the project is to be conducted. This estimate includes the time for reviewing instructions, searching existing data sources, gathering and maintaining the data needed, and completing and reviewing the collection of information. Send comments regarding this burden estimate, or any other aspect of these data collections, including suggestions for reducing the burden, to the NOAA Office of Response and Restoration, N/ORR, National Ocean Service, 1305 East-West Highway, Silver Spring, MD 20910, and to Office of Management and Budget (OMB) at the Office of Information and Regulatory Affairs, Office of Management and Budget, Washington, DC 20503 Attention: NOAA Desk Officer.

Notwithstanding any other provision of law, no person is required to respond to, nor shall any person be subject to a penalty for failure to comply with, a collection of information subject to the Paperwork Reduction Act, unless that collection displays a currently valid OMB control number.

Dated: April 15, 2002.
Alan Neuschatz,
Acting Assistant Administrator for Ocean Services and Coastal Zone Management.

[FR Doc. 02-9683 Filed 4-18-02; 8:45 am]

BILLING CODES 3510-JE-S and 3510-22-S